DEPARTMENT OF TRANSPORTATION

Federal Aviation Administration

14 CFR Part 39

[Docket No. FAA-2015-4816; Directorate Identifier 2014-NM-238-AD; Amendment 39-18444; AD 2016-06-13]

RIN 2120-AA64

Airworthiness Directives; Airbus Airplanes

AGENCY: Federal Aviation Administration (FAA), Department of Transportation (DOT).

ACTION: Final rule.

SUMMARY: We are adopting a new airworthiness directive (AD) for certain Airbus Model A319, A320, and A321 series airplanes. This AD was prompted by investigations that revealed that the cover seal of the brake dual distribution valve (BDDV) was damaged and did not ensure efficient sealing. This AD requires modifying the BDDVs having certain part numbers; modifying the drain hose of the BDDV; checking for the presence of water, ice, and hydraulic fluid; re-identifying the BDDV; and doing related investigative and corrective actions if necessary. We are issuing this AD to prevent damage to the BDDV, which could lead to water ingestion in the BDDV and freezing of the BDDV in flight, possibly resulting in loss of braking system function after landing.

DATES: This AD is effective May 3, 2016.

The Director of the Federal Register approved the incorporation by reference of a certain publication listed in this AD as of May 3, 2016.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-4816.

Examining the AD Docket

You may examine the AD docket on the Internet at http://www.regulations.gov by searching for and locating Docket No. FAA-2015-4816; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to certain Airbus Model A319, A320, and A321 series airplanes. The NPRM published in the Federal Register on November 19, 2015 (80 FR 72401) (“the NPRM”).

The European Aviation Safety Agency (EASA), which is the Technical Agent for the Member States of the European Union, has issued EASA Airworthiness Directive 2014-0251R1, dated December 17, 2014 (referred to after this as the Mandatory Continuing Airworthiness Information, or “the MCAI”), to correct an unsafe condition for certain Airbus Model A319, A320, and A321 series airplanes. The MCAI states:

In 1998, an operator experienced a dual loss of braking systems. Investigation results revealed that the cover seal of the Brake Dual Distribution Valve (BDDV) was damaged and did not ensure the sealing efficiency.

This condition, if not corrected, could lead to water ingestion in the BDDV and freezing of the BDDV in flight, possibly resulting in loss of braking system function after landing.

[The Directorate General for Civil Aviation] (DGAC) France issued AD 2000-258-146 [http://ad.easa.europa.eu/blob/20002580tb_superseded.pdf/AD_F-2000-258-146_1] [which corresponds to certain actions in FAA AD 2001-15-10, Amendment 39-12344 (66 FR 39413, July 31, 2001)] to require modification of the BDDV with a new cover and installation of a draining tube with a cap.

Since that French AD was issued, following a new event, Airbus developed a modification of the BDDV drain tube which will leave it open, ensuring continuous drainage of any ingested water, thereby preventing freezing of the brake system.

For the reasons described above, EASA issued [another AD] * * *, to require modification of the BDDV drain tube.

Since that [EASA] AD was issued, comments were received that indicated a need for correction and clarification. Consequently, this [EASA] AD is revised to add a Note to Table 1 and to amend paragraph (3).

The modification includes a check for the presence of water, ice, and hydraulic fluid, and related investigative and corrective actions if necessary. Related investigative actions include an inspection for corrosion. Corrective actions include replacing the BDDV. You may examine the MCAI in the AD docket on the Internet at http://www.regulations.gov by searching for and locating Docket No. FAA-2015-4816.

Comments

We gave the public the opportunity to participate in developing this AD. We considered the comment received. United Airlines had no objection to the NPRM.

Conclusion

We reviewed the relevant data, considered the comment received, and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

We reviewed Airbus Service Bulletin A320-32-1415, dated September 2, 2014. The service information describes procedures for modifying the BDDVs having certain part numbers; modifying the drain hose of the BDDV; checking for the presence of water, ice, and hydraulic fluid; re-identifying the BDDV; and doing related investigative and corrective actions if necessary. This service information is reasonably available because the interested parties have access to it through their normal course of business or by the means identified in the ADDRESSES section.

Costs of Compliance

We estimate that this AD affects 953 airplanes of U.S. registry.

We also estimate that it would take about 6 work-hours per product to comply with the basic requirements of this AD. The average labor rate is $85 per work-hour. Required parts cost about $421 per product. Based on these figures, we estimate the cost of this AD on U.S. operators to be $887,243, or $931 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-06-13 Airbus: Amendment 39-18444. Docket No. FAA-2015-4816; Directorate Identifier 2014-NM-238-AD.

(a) Effective Date

This AD is effective May 3, 2016.

(b) Affected ADs

None.

(c) Applicability

This AD applies to the airplanes identified in paragraphs (c)(1) through (c)(3) of this AD, certificated in any category, all manufacturer serial numbers, except those on which Airbus Modification 26925 has been embodied in production.

(1) Airbus Model A319-111, -112, -113, -114, -115, -131, -132, and -133 airplanes.

(2) Airbus Model A320-211, -212, -214, -231, -232, and -233 airplanes.

(3) Airbus Model A321-111, -112, -131, -211, -212, -213, -231, and -232 airplanes.

(d) Subject

Air Transport Association (ATA) of America Code 32, Landing Gear.

(e) Reason

This AD was prompted by investigations that revealed that the cover seal of the BDDV was damaged and did not ensure efficient sealing. We are issuing this AD to prevent damage to the BDDV, which could lead to water ingestion in the BDDV and freezing of the BDDV in flight, possibly resulting in loss of braking system function after landing.

(f) Compliance

Comply with this AD within the compliance times specified, unless already done.

(g) Modification and Re-Identification

Within 24 months after the effective date of this AD, modify the BDDV having a part number listed in the column “Old Part Number” in table 1 to paragraph (g) of this AD; modify the drain hose of the affected BDDV; check for the presence of water, ice, and hydraulic fluid; and re-identify the BDDV to the corresponding part number, as applicable, as listed as “New Part Number” in table 1 to paragraph (g) of this AD; and do all applicable related investigative and corrective actions; in accordance with the Accomplishment Instructions of Airbus Service Bulletin A320-32-1415, dated September 2, 2014. Do all applicable related investigative and corrective actions before further flight.

Table 1 to Paragraph (g) of This AD—BDDV Part Number Re-Identification
Old part number | New part number
A25434006-3 | A25434006-3000
A25434005-101 | A25434005-1010
A25434005-201 | A25434005-2010
A25434005-301 | A25434005-3010
A25434005-401 | A25434005-4010
A25434006-101 | A25434006-1010

Note 1 to table 1 to paragraph (g) of this AD: The part number listed in table 1 to paragraph (g) of this AD can have an “A” or “B” suffix, which is an indication of the amendment level of the BDDV. This does not affect compliance with this AD.

(h) Parts Installation Limitations

As of the applicable time specified in paragraph (h)(1) or (h)(2) of this AD, no person may install a BDDV having a part number listed as “Old Part Number” in table 1 to paragraph (g) of this AD, on any airplane.

(1) For any airplane that, on the effective date of this AD, has a BDDV installed with a part number listed as “Old Part Number” in table 1 to paragraph (g) of this AD: After modification of the airplane, as required by paragraph (g) of this AD.

(2) For any airplane that, on the effective date of this AD, has a BDDV installed with a part number listed as “New Part Number” in table 1 to paragraph (g) of this AD, or has a BDDV installed with a part number not listed in table 1 to paragraph (g) of this AD: As of the effective date of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

Refer to Mandatory Continuing Airworthiness Information (MCAI) EASA Airworthiness Directive 2014-0251R1, dated December 17, 2014, for related information. This MCAI may be found in the AD docket on the Internet at http://www.regulations.gov by searching for and locating Docket No. FAA-2015-4816.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-32-1415, dated September 2, 2014.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 16, 2016.
Michael Kaszycki,
Acting Manager, Transport Airplane Directorate, Aircraft Certification Service.

[FR Doc. 2016-06528 Filed 3-28-16; 8:45 am]

BILLING CODE 4910-13-P